FEDERAL COMMUNICATIONS COMMISSION

Notice of Public Information Collection(s) Being Submitted for Review to the Office of Management and Budget

November 16, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 29, 2007. If you anticipate that you will be submitting PRA comments, but find it difficult to do so within the period of time allowed by this notice, you should advise the FCC contact listed below as soon as possible.

ADDRESSES: Direct all PRA comments to Allison E. Zaleski, Office of Management and Budget, Room 10236 NEOB, Washington, DC 20503, (202) 395-6466, or via fax at 202-395-5167 or via internet at Allison_E._Zaleski@eop.omb.gov and to Judith-B.Herman@fcc.gov, Federal Communications Commission, Room 1-B441, 445 12th Street, SW., DC 20554 or an e-mail to PRA@fcc.gov. If you would like to obtain or view a copy of this information collection after the 60-day comment period, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-1007.

Title: Streamlining and Other Revisions of part 25 of the Commission's Rules.

Form No.: N/A.

Type of Review: Extension of a currently approved collection.

Respondents: Business or other for-profit.

Number of Respondents: 28 respondents; 28 responses.

Estimated Time Per Response: 1 hour.

Frequency of Response: On occasion, annual and other reporting requirements and third party disclosure requirement.

Total Annual Burden: 9,688 hours.

Total Annual Cost: $95,194,000.

Privacy Act Impact Assessment: Yes.

Needs and Uses: The Commission will submit this information collection to OMB as an extension (no change in reporting or third party requirements) after this 60-day comment period to obtain the full three-year clearance from them. There is no change in the number of respondents, burden hours or annual costs.

The collection of information is used by the Federal Communications Commission (“Commission”) in carrying out its duties concerning satellite communications as required by sections 301, 308, 309 and 310 of the Communications Act and the World Trade Organization (WTO) Basic Telecom Agreement.

The information collection requirements accounted for in this collection are necessary to determine the technical, legal and financial qualifications of applicants or licensees to operate a station, transfer or assign a license, and to determine whether the authorization is in the public interest, convenience and necessity. All satellite applications for both U.S. and non-U.S. entities are filed under part 25 of the Commission's rules. Without such information, the Commission could not determine whether to permit respondents to provide telecommunications services in the United States. Therefore, the Commission would be unable to fulfill its statutory responsibilities in accordance with the Communications Act of 1934, as amended, and the obligations imposed on parties to the WTO Basic Telecom Agreement.

OMB Control Number: 3060-1067.

Title: Qualification Questions.

Form No.: FCC Form 312-EZ.

Type of Review: Extension of a currently approved collection.

Respondents: Business or other for-profit.

Number of Respondents: 3,872 respondents; 3,872 responses.

Estimated Time Per Response: 10 hours.

Frequency of Response: On occasion reporting requirement.

Total Annual Burden: 38,720 hours.

Total Annual Cost: $9,874,000.

Privacy Act Impact Assessment: Yes.

Needs and Uses: The Commission will submit this information collection to OMB as an extension (no change in reporting requirements) after this 60-day comment period to obtain the full three-year clearance from them. There is no change in the number of respondents, burden hours or annual costs.

The FCC Form 312-EZ is used by applicants for C-band and Ku-band earth stations who are eligible for the “auto-grant” procedure. This collection is used by the Commission in carrying out its duties concerning satellite communications as required by sections 301, 308, 309 and 310 of the Communications Act. This collection is also used by the Commission in carrying out its duties under the World Trade Organization (WTO) Basic Telecom Agreement. The information collection requirements accounted for in this collection are necessary to determine the technical and legal qualifications of applicants or licensees to operate a station, transfer or assign a license, and to determine whether the authorization is in the public interest, convenience and necessity. All “routine” earth station applications that are consistent with all the technical requirements in part 25 applicable to earth stations, are included in this collection. Without such information, the Commission could not determine whether to permit respondents to provide telecommunications services in the United States. Therefore, the Commission would be unable to fulfill its statutory responsibilities in accordance with the Communications Act of 1934, as amended, and the obligations imposed on parties to the WTO Basic Telecom Agreement.

Federal Communications Commission.
Marlene H. Dortch,
Secretary.

[FR Doc. E6-20019 Filed 11-28-06; 8:45 am]

BILLING CODE 6712-01-P